DEPARTMENT OF ENERGY

Federal Energy Regulatory Commission

[Project No. 5737-007]

Santa Clara Valley Water District; Notice of Reservoir Drawdown and Operations Plan Accepted for Filing and Soliciting Comments, Motions To Intervene, and Protests

Take notice that the following hydroelectric plan has been filed with the Commission and is available for public inspection:

a. Filing Type: Reservoir Drawdown and Operations Plan.

b. Project No: 5737-007.

c. Date Filed: July 27, 2020.

d. Applicant: Santa Clara Valley Water District.

e. Name of Project: Anderson Dam Hydroelectric Project.

f. Location: The project is located on Coyote Creek in Santa Clara County, CA.

g. Filed Pursuant to: Federal Power Act, 16 U.S.C. 791a-825r.

h. Applicant Contact: Christopher Hakes, (408) 630-3796, chakes@valleywater.org.

i. FERC Contact: Jennifer Ambler, (202) 502-8586, jennifer.ambler@ferc.gov.

j. Deadline for filing comments, motions to intervene, and protests: August 17, 2020.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-5737-007. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: On February 20, 2020, Commission staff required Santa Clara Valley Water District (exemptee) to implement dam safety interim risk reduction measures at the Anderson Dam Project including: Holding the reservoir elevation at or below 565 feet (ft); requiring the exemptee to begin by October 1, 2020 a drawdown of the reservoir to elevation 488 ft; and expediting the construction of a low-level outlet at the dam. These measures are required to reduce seismic instability risks until a larger retrofit of the dam can be implemented. The exemptee proposes in its July 27, 2020 Reservoir Drawdown and Operations Plan to begin the drawdown of the reservoir on October 1, 2020 with the reservoir level of 488 ft expected to be reached by April 2021. The proposed low-level outlet works would be located in proximity to the existing outlet at the base of Anderson Dam with construction proposed to start in early 2021 and completed in late 2023. The exemptee also proposes, as mitigation measures, the following actions, including some downstream of the Anderson Dam project: Reservoir rim monitoring and channel stabilization; reconstruct the downstream Coyote Percolation Dam to withstand higher flows from the proposed low-level outlet; extend the Cross Valley Pipeline and add chillers to supplement water to Coyote Creek to support groundwater recharge and fisheries; relocate and rescue steelhead; and build flood walls, and elevate or acquire property that have the potential to be affected by flows from the operation of the proposed low-level outlet.

l. Locations of the Plan: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

o. Filing and Service of Documents: Any filing must: (1) Bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: July 31, 2020.
Kimberly D. Bose,
Secretary.

[FR Doc. 2020-17184 Filed 8-5-20; 8:45 am]

BILLING CODE 6717-01-P